ENVIRONMENTAL PROTECTION AGENCY

[EPA-HQ-OPP-2014-0558; FRL-9919-04]

Proposed Removal of Certain Inert Ingredients From Approved Chemical Substance List for Pesticide Products; Extension of Comment Period

AGENCY: Environmental Protection Agency (EPA).

ACTION: Notice; extension of comment period.

SUMMARY: EPA issued a notice in the Federal Register of October 22, 2014, concerning the removal of certain chemical substances from the current listing of inert ingredients approved for use in pesticide products because the inert ingredients are no longer used in any registered pesticide product. This document extends the comment period for 60 days, from November 21, 2014, to January 20, 2015. Pesticide registrants and other stakeholders potentially impacted by the EPA proposal requested an extension on the comment period stating that more time was needed to confirm the chemical substances against the registrations. EPA grants the extension request to provide stakeholders with sufficient time to conduct the necessary record verifications.

DATES: Comments, identified by docket identification (ID) number EPA-HQ-OPP-2014-0558, must be received on or before January 20, 2015.

ADDRESSES: Follow the detailed instructions provided under ADDRESSES in the Federal Register document of October 22, 2014 (79 FR 63120) (FRL-9916-22).

FOR FURTHER INFORMATION CONTACT: Cameo G. Smoot, Field and External Affairs Division (7506P), Office of Pesticide Programs, Environmental Protection Agency; 1200 Pennsylvania Ave. NW., Washington DC 20460-0001; telephone number: (703) 305-5454; email address: smoot.cameo@epa.gov.

SUPPLEMENTARY INFORMATION: This document extends the public comment period established in the Federal Register document of October 22, 2014. In that document, EPA solicits comment from stakeholders on EPA's proposal to remove 72 inert ingredients from the approved chemical substance list for pesticide products. EPA is hereby extending the comment period, which was set to end on November 21, 2014, to January 20, 2015.

To submit comments, or access the public docket, please follow the detailed instructions provided under ADDRESSES in the Federal Register document of October 22, 2014. If you have questions, consult the person listed under FOR FURTHER INFORMATION CONTACT.

Authority: 7 U.S.C. 136 et seq.

Dated: November 17, 2014.
James J. Jones,
Assistant Administrator, Office of Chemical Safety and Pollution Prevention.

[FR Doc. 2014-27899 Filed 11-25-14; 8:45 am]

BILLING CODE 6560-50-P